DEPARTMENT OF STATE

[Public Notice 8929]

U.S. Department of State Advisory Committee on Private International Law (ACPIL): Public Meeting on the Judgments Project

The Office of the Assistant Legal Adviser for Private International Law, Department of State, gives notice of a public meeting to discuss the judgments project. The public meeting will take place on Monday, November 10, 2014, from 10:00 a.m. until 12:30 p.m. EST. This is not a meeting of the full Advisory Committee.

A Working Group of the Hague Conference has met three times thus far to discuss the structure and provisions of a convention on the recognition and enforcement of foreign judgments.

The purpose of the public meeting is to obtain the views of concerned stakeholders on the different approaches to a convention that have been proposed, and to discuss the relative advantages and disadvantages of the different approaches. Among other things, we would like to receive views and thoughts on the use of jurisdictional criteria or filters in determining which judgments should be recognized and enforced.

Time and Place: The meeting will take place from 10:00 a.m. until 12:30 p.m. EST on November 10th, in Room 240, South Building, State Department Annex 4, Washington, DC 20037. Participants should plan to arrive at the Navy Hill gate on the west side of 23rd Street NW., at the intersection of 23rd Street NW., and D Street NW., by 9:30 a.m. for visitor screening. If you are unable to attend the public meeting and would like to participate from a remote location, teleconferencing will be available. Those who cannot attend but wish to comment are welcome to do so by email to John Kim at kimmjj@state.gov.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than November 3, 2014. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at http://www.state.gov/documents/organization/103419.pdf for additional information.

Dated: October 17, 2014.
John J. Kim,
Assistant Legal Adviser, Office of Private International Law, Office of the Legal Adviser, U.S. Department of State.

[FR Doc. 2014-25260 Filed 10-22-14; 8:45 am]

BILLING CODE 7410-08-P